AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before September 7, 2010.

ADDRESSES: Send comments via e-mail at jjtaylor@usaid.gov or mail comments to: Jacqueline Taylor, Office of Acquisition and Assistance, United States Agency for International Development, Ronald Reagan Building, 1300 Pennsylvania Avenue, NW., Washington, DC 20523, (202) 712-0492.

FOR FURTHER INFORMATION CONTACT: Beverly Johnson, Bureau for Management, Office of Administrative Services, Information and Records Division, U.S. Agency for International Development, Room 2.07-106, RRB, Washington, DC 20523, (202) 712-1365 or via e-mail at bjohnson@usaid.gov.

SUPPLEMENTARY INFORMATION: OMB No: OMB 0412-0565.

Form No.: N/A.

Title: Applicant's Certification that it Does Not Support Terrorist Organizations or Individuals.

Type of Review: Renewal of Information Collection.

Purpose: The United States Agency for International Development (USAID) needs to require applicants for assistance to certify that it does not and will not engage in financial transactions with, and does not and will not provide material support and resources to individuals or organizations that engage in terrorism. The purpose of this requirement is to assure that USAID does not directly provide support to such organizations or individuals, and to assure that recipients are aware of these requirements when it considers individuals or organizations are subrecipients.

Annual Reporting Burden:

Respondents: 2,000.

Total Annual Responses: 4,000.

Total Annual Hours Requested: 1,500 hours.

Dated: June 28, 2010.
Roberto Miranda,
Director, Office of Administrative Services, Bureau for Management.

[FR Doc. 2010-16466 Filed 7-7-10; 8:45 am]

BILLING CODE 6116-02-M